DEPARTMENT OF COMMERCE

International Trade Administration

[A-552-802]

Certain Frozen Warmwater Shrimp From the Socialist Republic of Vietnam: Preliminary Results, Partial Rescission, and Preliminary Determination of No Shipments of Antidumping Duty Administrative Review; 2022-2023

AGENCY: Enforcement and Compliance, International Trade Administration, Department of Commerce.

SUMMARY: The U.S. Department of Commerce (Commerce) preliminarily determines that no companies under review qualify for a separate rate and that these companies are, therefore, considered part of the Socialist Republic of Vietnam (Vietnam)-wide entity. Additionally, Commerce is partially rescinding this review with respect to companies for which all review requests were timely withdrawn. Further, Commerce preliminary determines that certain companies had no shipments of subject merchandise during the period of review (POR), February 1, 2022, through January 31, 2023. Interested parties are invited to comment on these preliminary results.

DATES: Applicable November 3, 2023.

FOR FURTHER INFORMATION CONTACT: Jonathan Schueler, AD/CVD Operations, Office VIII, Enforcement and Compliance, International Trade Administration, U.S. Department of Commerce, 1401 Constitution Avenue NW, Washington, DC 20230; telephone: (202) 482-9175.

SUPPLEMENTARY INFORMATION:

Background

On February 2, 2023, Commerce published a notice of opportunity to request an administrative review of the antidumping duty order on certain frozen warmwater shrimp from the Vietnam.¹ Commerce received timely requests for an administrative review from AHSTAC (the petitioner),² ASPA (domestic processors),³ and numerous Vietnamese companies. On April 11, 2023, Commerce published in the Federal Register a notice of initiation of an administrative review of the Order for the period February 1, 2022, through January 31, 2023, covering 187 companies including multiple companies with name variations/abbreviations in accordance with section 751(a) of the Tariff Act of 1930, as amended (the Act) and 19 CFR 351.221(c)(1)(i).⁴

¹ See Antidumping or Countervailing Duty Order, Finding, or Suspended Investigation; Opportunity to Request Administrative Review, 88 FR 7071 (February 2, 2023); see also Notice of Amended Final Determination of Sales at Less Than Fair Value and Antidumping Duty Order: Certain Frozen Warmwater Shrimp from the Socialist Republic of Vietnam, 70 FR 5152 (February 1, 2005) (Order).

² The petitioner, AHSTAC, is the Ad Hoc Shrimp Trade Action Committee.

³ The domestic processors, ASPA, are the American Shrimp Processors Association.

⁴ See Initiation of Antidumping and Countervailing Duty Administrative Reviews, 88 FR 21609 (April 11, 2023) (Initiation Notice).

On May 16 and 17, 2023, the petitioner filed timely withdrawals of its review requests of 41 companies.⁵ On May 17, 2023, ASPA filed timely withdrawals of its review requests of 35 companies.⁶ On May 16, 2023, Ngoc Tri Seafood Joint Stock Company, Tai Kim Anh Seafood Joint Stock Corporation, and 49 other Vietnamese producers and/or exporters, including Viet I-Mei Frozen Foods Co., Ltd. (Viet I-Mei), withdrew their review requests of themselves.⁷ On May 25, 2023, Kim Anh Company and QNL One Member Company timely withdrew their review requests of themselves.⁸ Therefore, Commerce is rescinding its review with respect to the 66 companies for which all review requests were withdrawn, listed in Appendix II of this notice, as discussed below.

⁵ See Petitioner's Letters, “Domestic Producers' Partial Withdrawal of Review Requests,” dated May 16, 2023; and “Domestic Producers' Partial Withdrawal of Review Requests,” dated May 17, 2023.

⁶ See ASPA's Letters, “American Shrimp Processors Association's Partial Withdrawal of Review Requests,” dated May 17, 2023; and “American Shrimp Processors Association's Partial Withdrawal of Review Requests,” dated May 17, 2023.

⁷ See Akin Gump's Letter, “Withdrawal of Review Requests,” dated May 16, 2023.

⁸ See Akin Gump's Letter, “Withdrawal of Review Requests—Kim Anh Company & QNL One Member Company,” dated May 25, 2023.

Respondent Selection

On April 27, 2023, only one company, Viet I-Mei, filed a timely separate rate certification.⁹ On May 3, 2023, Commerce released U.S. Customs and Border Protection (CBP) entry data in order to select respondents for individual examination.¹⁰ We received comments regarding respondent selection from the petitioner on May 10, 2023.¹¹ However, Commerce did not select any mandatory respondents for individual examination because the sole company which timely filed a separate rate application and/or certification and was, therefore, eligible for individual examination (i.e., Viet I-Mei) had no remaining review requests on the record, as discussed below.

⁹ See Viet I-Mei's Letter, “Separate Rate Certification of Viet I-Mei Frozen Foods Co., Ltd. (`Viet I-Mei'),” dated April 27, 2023.

¹⁰ See Memorandum, “Customs Data of U.S. Imports of Certain Frozen Warmwater Shrimp for Respondent Selection,” dated May 3, 2023.

¹¹ See Petitioner's Letter, “Domestic Producers' Comments Regarding Respondent Selection,” dated May 10, 2023.

Scope of the Order

The merchandise subject to the Order is certain frozen warmwater shrimp. The product is currently classified under the following Harmonized Tariff Schedule of the United States (HTSUS) item subheadings: 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, 0306.17.0042, 1605.21.10.30, and 1605.29.10.10. Although the HTSUS subheadings are provided for convenience and for customs purposes, the written product description, provided in Appendix I, remains dispositive.

Partial Rescission of Review

Pursuant to 19 CFR 351.213(d)(1), Commerce will rescind an administrative review, in whole or in part, if the party that requested the review withdraws its request within 90 days of the publication of the notice of initiation of the requested review. Because all requests for administrative review of the 66 companies listed in Appendix II were withdrawn by interested parties within 90 days of the date of publication of the Initiation Notice, and no other interested party requested a review of them, Commerce is rescinding this review with respect to these companies and their name variations/abbreviations, in accordance with 19 CFR 351.213(d)(1). Commerce will instruct CBP to assess antidumping duties on all appropriate entries at a rate equal to the cash deposit of estimated antidumping duties required at the time of entry, or withdrawal from warehouse, for consumption, during the period February 1, 2022, through January 31, 2023, in accordance with 19 CFR 351.212(c)(1)(i). Commerce intends to issue appropriate assessment instructions to CBP 35 days after the publication of this notice in the Federal Register. The administrative review remains active with respect to 121 companies.

Preliminary Determination of No Shipments

Commerce received timely no-shipment certifications from four companies: Bien Dong Seafood Co., Ltd.; Vinh Hoan Corp.; Seavina Joint Stock Company; and BIM Foods Joint Stock Company.¹² To confirm these companies' no-shipment claims, Commerce issued a no-shipment inquiry to CBP and received no contradictory information.¹³ Therefore, we preliminarily determine that these four companies did not have any shipments of subject merchandise during the POR. Consistent with Commerce's practice, we will not rescind the review with respect to these companies, but, rather, will complete the review and issue instructions based on the final results.¹⁴

¹² See BIM Foods Joint Stock Company's Letter, “No Shipments Certification,” dated April 11, 2023; see also Vinh Hoan Corp. and Van Duc Food Export Joint Stock Company's Letter, “No Shipment Certification,” dated April 28, 2023; Bien Dong Seafood Co., Ltd.'s Letter, “Notice of No Sales,” dated May 9, 2023; and Seavina Joint Stock Company's Letter, “Notice of No Sales,” dated May 9, 2023. We omitted Van Duc Export Joint Stock Company from this list because although it timely filed a no-shipment certification, the company is not under review. See Initiation Notice, 88 FR at 21617.

¹³ See Memorandum, “No Shipment Inquiry for Multiple Companies During the Period 02/01/2022 through 01/31/2023,” dated July 11, 2023 (where CBP confirmed that it found no entries of subject merchandise by Bien Dong Seafood Co., Ltd., Vinh Hoan Corp., Van Duc Food Export Joint Stock Company, Seavina, and Seavina Joint Stock Company, and BIM Foods Joint Stock Company, or BIM Seafood Joint Stock Company).

¹⁴ See Non-Market Economy Antidumping Proceedings: Assessment of Antidumping Duties, 76 FR 65694 (October 24, 2011) (NME AD Assessment); see also “Assessment Rates” section, infra.

Vietnam-Wide Entity

Commerce finds that 117 companies (see Appendix III) under review have not established eligibility for a separate rate and are considered to be part of the Vietnam-wide entity for these preliminary results. Commerce's policy regarding conditional review of the Vietnam-wide entity applies to this administrative review.¹⁵ Under this policy, the Vietnam-wide entity will not be under review unless a party specifically requests, or Commerce self-initiates, a review of the entity. Because no party requested a review of the Vietnam-wide entity, the entity is not under review and the entity's rate of 25.76 percent is not subject to change.

¹⁵ See Antidumping Proceedings: Announcement of Change in Department Practice for Respondent Selection in Antidumping Duty Proceedings and Conditional Review of the Nonmarket Economy Entity in NME Antidumping Duty Proceedings, 78 FR 65963 (November 4, 2013).

Preliminary Results of Review

Commerce finds that because no company still under review submitted a timely separate rate application or separate rate certification, no company still under review has established eligibility for a separate rate. Based on the above information, Commerce has not calculated any dumping margins for any companies under review, nor has Commerce granted separate rates to any companies under review. Additionally, as discussed above, Commerce has preliminarily determined that the 117 companies that remain under review but which did not submit no-shipment certifications are subject to the Vietnam-wide entity rate of 25.76 percent (see Appendix III).

Disclosure and Public Comment

Normally, Commerce will disclose the calculations used in its analysis to parties in this review within five days of the date of publication of the notice of preliminary results in the Federal Register, in accordance with 19 CFR 351.224(b). However, here Commerce only applied the Vietnam-wide rate, which was established in the underlying investigation,¹⁶ to the 117 companies identified in Appendix III. Thus, there are no calculations to disclose.

¹⁶ See Final Determination of Sales at Less Than Fair Value: Certain Frozen and Canned Warmwater Shrimp from the Socialist Republic of Vietnam, 69 FR 71005, 71008 (December 8, 2004), and accompanying Issues and Decision Memorandum at Comments 6 and 10C (“we have applied a rate of 25.76 percent, a rate calculated in the initiation stage of the investigation from information provided in the petition . . .”).

Interested parties may submit case briefs no later than 30 days after the date of publication of this notice.¹⁷ Rebuttal briefs, the content of which is limited to the issues raised in the case briefs, must be filed within five days from the deadline date for the submission of case briefs.¹⁸ Parties who submit case or rebuttal briefs in this proceeding are requested to submit with each argument: (1) a statement of the issue; (2) a brief summary of the argument; and (3) a table of authorities.¹⁹ Case and rebuttal briefs should be filed electronically via Enforcement and Compliance's Antidumping and Countervailing Duty Centralized Electronic Service System (ACCESS). ACCESS is available to registered users at https://access.trade.gov. Note that Commerce has amended certain of its requirements pertaining to the service of documents in 19 CFR 351.303(f).²⁰

¹⁷ See 19 CFR 351.309(c)(1)(ii).

¹⁸ See 19 CFR 351.309(d)(1) and (2); see also Administrative Protective Order, Service, and Other Procedures in Antidumping and Countervailing Duty Proceedings, 88 FR 67069 (September 29, 2023) (APO and Service Final Rule).

¹⁹ See 19 CFR 351.309(c)(2) and (d)(2).

²⁰ See APO and Service Final Rule.

Pursuant to 19 CFR 351.310(c), interested parties who wish to request a hearing must submit a written request to the Assistant Secretary for Enforcement and Compliance, filed electronically via ACCESS. An electronically-filed document must be received successfully in its entirety by ACCESS by 5 p.m. Eastern Time within 30 days after the date of publication of this notice.²¹ Hearing requests should contain the following information: (1) the party's name, address, and telephone number; (2) the number of participants; (3) whether any participant is a foreign national; and (4) a list of issues to be discussed. Issues raised in the hearing will be limited to issues raised in the briefs. If a request for a hearing is made, Commerce intends to hold the hearing at a time and date to be determined.²²

²¹ See 19 CFR 351.310(c).

²² See 19 CFR 351.310(d).

Assessment Rates

Pursuant to section 751(a)(2)(A) of the Act and 19 CFR 351.212(b)(1), Commerce will determine, and CBP shall assess, antidumping duties on all appropriate entries of subject merchandise covered by this review. For the companies in which Commerce is rescinding this administrative review, Commerce intends to issue assessment instructions to CBP no earlier than 35 days after the date of publication of this notice in the Federal Register. For the remaining companies under review, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

If we continue to find in the final results no shipments for the companies identified in the “Preliminary Determination of No Shipments” section above, Commerce will instruct CBP to liquidate any suspended entries of subject merchandise that entered under those companies' case numbers at the Vietnam-wide rate.²³

²³ See NME AD Assessment.

For the final results, if we continue to treat the 117 companies identified in Appendix III as part of the Vietnam-wide entity, we will instruct CBP to apply an ad valorem assessment rate of 25.76 percent to all entries of subject merchandise during the POR which were produced and/or exported by those companies. The final results of this review shall be the basis for the assessment of antidumping duties on entries of merchandise covered by the final results of this review and for future deposits of estimated duties, where applicable.

Cash Deposit Requirements

The following cash deposit requirements will be effective upon publication of the final results of this administrative review for shipments of the subject merchandise from Vietnam entered, or withdrawn from warehouse, for consumption on or after the publication date, as provided by sections 751(a)(2)(C) of the Act: (1) for all Vietnam exporters of subject merchandise that have not been found to be entitled to a separate rate, the cash deposit rate will be the existing rate for the Vietnam-wide entity of 25.76 percent; and (2) for all non-Vietnam exporters of subject merchandise which have not received their own rate, the cash deposit rate will be the rate applicable to the Vietnam exporter that supplied that non-Vietnam exporter. These cash deposit requirements, when imposed, shall remain in effect until further notice.

Final Results of Review

Unless otherwise extended, Commerce intends to issue the final results of this administrative review, including the results of its analysis of issues raised by the parties in the written comments, within 120 days of publication of these preliminary results in the Federal Register, pursuant to section 751(a)(3)(A) of the Act and 19 CFR 351.213(h)(1).

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties. This determination is issued and published in accordance with sections 751(a)(1)(B) and 777(i)(1) of the Act and 19 CFR 351.221(b)(4).

Notification to Interested Parties

These preliminary results are issued and published in accordance with sections 751(a)(1)(B) and 777(i)(1) of the Act and 19 CFR 351.221(b)(4).

Dated: October 30, 2023.
Abdelali Elouaradia,
Deputy Assistant Secretary for Enforcement and Compliance.

Appendix I—Scope of the Order

The scope of the Order includes certain frozen warmwater shrimp and prawns, whether wild-caught (ocean harvested) or farm-raised (produced by aquaculture), head-on or head-off, shell-on or peeled, tail-on or tail-off,²⁴ deveined or not deveined, cooked or raw, or otherwise processed in frozen form.

²⁴ “Tails” in this context means the tail fan, which includes the telson and the uropods.

The frozen warmwater shrimp and prawn products included in the scope of the Order, regardless of definitions in the Harmonized Tariff Schedule of the United States (HTSUS), are products which are processed from warmwater shrimp and prawns through freezing and which are sold in any count-size.

The products described above may be processed from any species of warmwater shrimp and prawns. Warmwater shrimp and prawns are generally classified in, but are not limited to, the Penaeidae family. Some examples of the farmed and wild-caught warmwater species include, but are not limited to, white-leg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the Order. In addition, food preparations, which are not “prepared meals,” that contain more than 20 percent by weight of shrimp or prawn are also included in the scope of the Order.

Excluded from the scope are: (1) breaded shrimp and prawns (HTSUS subheading 1605.20.10.20); (2) shrimp and prawns generally classified in the Pandalidae family and commonly referred to as coldwater shrimp, in any state of processing; (3) fresh shrimp and prawns whether shell-on or peeled (HTSUS subheadings 0306.23.00.20 and 0306.23.00.40); (4) shrimp and prawns in prepared meals (HTSUS subheading 1605.20.05.10); (5) dried shrimp and prawns; (6) canned warmwater shrimp and prawns (HTSUS subheading 1605.20.10.40); and (7) certain battered shrimp. Battered shrimp is a shrimp-based product: (1) that is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (IQF) freezing immediately after application of the dusting layer. When dusted in accordance with the definition of dusting above, the battered shrimp product is also coated with a wet viscous layer containing egg and/or milk, and par-fried.

The products covered by this Order are currently classified under the following HTSUS subheadings: 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, 0306.17.0042, 1605.21.10.30, and 1605.29.10.10. These HTSUS subheadings are provided for convenience and for customs purposes only and are not dispositive, but rather the written description of the scope of this Order is dispositive.²⁵

²⁵ On April 26, 2011, Commerce amended the antidumping duty order to include dusted shrimp, pursuant to the U.S. Court of International Trade decision in Ad Hoc Shrimp Trade Action Committee v. United States, 703 F. Supp. 2d 1330 (CIT 2010) and the U.S. International Trade Commission determination, which found the domestic like product to include dusted shrimp. See Certain Frozen Warmwater Shrimp from Brazil, India, the People's Republic of China, Thailand, and the Socialist Republic of Vietnam: Amended Antidumping Duty Orders in Accordance with Final Court Decision, 76 FR 23277 (April 26, 2011); see also Ad Hoc Shrimp Trade Action Committee v. United States, 703 F. Supp. 2d 1330 (CIT 2010); and Frozen Warmwater Shrimp from Brazil, China, India, Thailand, and Vietnam, Investigation Nos. 731-TA-1063, 1064, 1066-1068 (Review), USITC Pub. 4221 (March 2011).

Appendix II—Companies With Respect to Which Commerce Is Rescinding Its Review

1. Bac Lieu Fis

2. Bac Lieu Fisheries Joint Stock Company

3. C.P. Vietnam Corporation

4. Ca Mau Seafood Joint Stock Company

5. Cafatex Fishery Joint Stock Corporation

6. CAFISH

7. Camau Seafood Processing and Service Joint Stock Corporation

8. Camimex

9. Camimex Foods Joint Stock Company

10. Camimex Group

11. Camimex Group Joint Stock Company ²⁶

²⁶ Because Commerce has previously determined that Camimex Group Joint Stock Company is the successor-in-interest to Camau Frozen Seafood Processing Import Export Corporation, it has treated review requests for Camau Frozen Seafood Processing Import Export Corporation as review requests for Camimex Group Joint Stock Company and only listed Camimex Group Joint Stock Company in the Initiation Notice and in this notice. See Initiation Notice, 88 FR 21626 (footnote 9); see also Certain Frozen Warmwater Shrimp from the Socialist Republic of Vietnam: Notice of Final Results of Antidumping Duty Changed Circumstances Review, 86 FR 47617 (August 26, 2021).

12. Cantho Import Export Fishery Limited Company

13. CASES

14. Cuu Long Seapro

15. Cuulong Seapro

16. Cuulong Seaproducts Company

17. FIMEX VN; Sao Ta Seafood Factory

18. Frozen Seafoods Factory No. 32

19. Hai Viet Corporation

20. HAVICO

21. Khanh Sung Co., Ltd.

22. Kim Anh

23. Kim Anh Company Limited

24. Minh Hai Export Frozen Seafood Processing Joint-Stock Company

25. Minh Hai Joint-Stock Seafoods Processing Company

26. Minh Hai Jostoco

27. Nam Hai Foodstuff and Export Company Ltd.

28. Ngoc Tri

29. Ngoc Tri Seafood Joint Stock Company

30. Nha Trang Seafoods—F.89 Joint Stock Company

31. Nha Trang Seaproduct Company

32. NT Seafoods Corporation

33. NTSF Seafoods Joint Stock Company

34. QNL Company Limited

35. QNL One Member Company

36. Quoc Viet Seaproducts Processing Trade and Import-Export Co., Ltd.

37. Quoc Viet Seaproducts Processing Trading and Import-Export Co., Ltd.

38. Sao Ta Foods Joint Stock Company

39. Saota Seafood Factory

40. Sea Minh Hai

41. Seafoods and Foodstuff Factory

42. Seaprimexco Vietnam

43. Seaprodex Minh Hai

44. Seaprodex Minh Hai Factory No. 69

45. Seaprodex Minh Hai Workshop 1

46. Seaprodex Minh Hai-Factory No. 78

47. Soc Trang Seafood Joint Stock Company

48. STAPIMEX

49. T&T Cam Ranh

50. Tacvan Frozen Seafood Processing Export Company

51. Tacvan Seafoods Company

52. Tai Kim Anh Seafood Joint Stock Corporation

53. TAIKA Seafood Corporation

54. Tay Do Seafood Enterprise

55. Thong Thuan Cam Ranh Seafood Joint Stock Company

56. Thong Thuan Company Limited

57. Thuan Phuoc Seafoods and Trading Corporation

58. Trang Khanh Seafood Co., Ltd.

59. Trong Nhan Seafood Co., Ltd.

60. UTXI Aquatic Products Processing Corporation

61. UTXICO

62. Viet Foods Co. Ltd.

63. Viet I-Mei Frozen Foods Co., Ltd.

64. Vietnam Clean Seafood Corporation

65. Vietnam Fish One Co., Ltd.

66. Vina Cleanfood

Appendix III—Companies Under Review Determined To Be Part of the Vietnam-Wide Entity

1. AFoods

2. Amanda Seafood Co., Ltd.

3. An Nguyen Investment Production and Group

4. Anh Khoa Seafood

5. Anh Minh Quan Corp.

6. APT Co.

7. Au Vung One Seafood

8. Bentre Forestry and Aquaproduct Import-Export Joint Stock Company

9. Bentre Seafood Joint Stock Company

10. Beseaco

11. Binh Dong Fisheries Joint Stock Company

12. Binh Thuan Import-Export Joint Stock Company

13. Blue Bay Seafood Co., Ltd.

14. Cadovimex

15. Cadovimex II Seafood Import Export and Processing Joint Stock Company

16. Cadovimex Seafood Import-Export and Processing Joint Stock Company

17. Cantho Import Export Seafood Joint Stock Company

18. Caseamex

19. CJ Cau Tre Foods Joint Stock Company

20. Coastal Fisheries Development Corporation

21. COFIDEC

22. Dai Phat Tien Seafood Co., Ltd.

23. Danang Seafood Import Export

24. Danang Seaproducts Import-Export Corporation

25. Dong Hai Seafood Limited Company

26. Dong Phuong Seafood Co., Ltd.

27. Duc Cuong Seafood Trading Co., Ltd.

28. Duong Hung Seafood

29. FAQUIMEX

30. FFC

31. Fine Foods Company

32. Gallant Dachan Seafood Co., Ltd.

33. Gallant Ocean (Vietnam) Co. Ltd.

34. Gallant Ocean (Vietnam) Joint Stock Company

35. Go Dang Joint Stock Company

36. GODACO Seafood

37. Green Farms Seafood Joint Stock Company

38. Hanh An Trading Service Co., Ltd.

39. Hoang Anh Fisheries Trading Company Limited

40. Hong Ngoc Seafood Co., Ltd.

41. Hung Bang Company Limited

42. Hung Dong Investment Service Trading Co., Ltd.

43. HungHau Agricultural Joint Stock Company

44. INCOMFISH

45. Investment Commerce Fisheries Corporation

46. JK Fish Co., Ltd.

47. Khang An Foods Joint Stock Company

48. Khanh Hoa Seafoods Exporting Company

49. KHASPEXCO

50. Long Toan Frozen Aquatic Products Joint Stock Company

51. MC Seafood

52. Minh Bach Seafood Company Limited

53. Minh Cuong Seafood Import Export Processing Joint Stock Company

54. Minh Phat Seafood Company Limited ²⁷

²⁷ As stated in the Initiation Notice, shrimp produced and exported by Minh Phat Seafood Company Limited were excluded from the Order effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this review was initiated for this exporter only with respect to subject merchandise produced by another entity. See Initiation Notice, 88 FR at 21616 (footnote 10).

55. Minh Phu Hau Giang Seafood ²⁸

²⁸ As stated in the Initiation Notice, shrimp produced and exported by Minh Phu Hau Giang Seafood were excluded from the Order effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this review was initiated for this exporter only with respect to subject merchandise produced by another entity. See Initiation Notice, 88 FR at 21616 (footnote 11).

56. Minh Phu Seafood Corporation ²⁹

²⁹ As stated in the Initiation Notice, shrimp produced and exported by Minh Phu Seafood Corporation were excluded from the Order effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this review was initiated for this exporter only with respect to subject merchandise produced by another entity. See Initiation Notice, 88 FR at 21616 (footnote 12).

57. Minh Qui Seafood Company Limited ³⁰

³⁰ As stated in the Initiation Notice, shrimp produced and exported by Minh Qui Seafood Company Limited were excluded from the Order effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this review was initiated for this exporter only with respect to subject merchandise produced by another entity. See Initiation Notice, 88 FR at 21616 (footnote 13).

58. Nam Phuong Foods Import Export Company Limited

59. Nam Viet Seafood Import Export Joint Stock Company

60. Namcan Seaproducts Import Export Joint Stock Company

61. NAVIMEXCO

62. New Generation Seafood Joint Stock Company

63. New Wind Seafood Company Limited

64. Ngoc Trinh Bac Lieu Seafood Co., Ltd.

65. Nguyen Chi Aquatic Product Trading Company Limited

66. Nhat Duc Co., Ltd.

67. Nigico Co., Ltd.

68. Phuong Nam Foodstuff Corp.

69. QAIMEXCO

70. Quang Minh Seafood Co., Ltd

71. Quoc Ai Seafood Processing Import Export Co., Ltd.

72. Quoc Toan PTE

73. Quoc Toan Seafood Processing Factory

74. Quy Nhon Frozen Seafoods Joint Stock Company

75. Safe And Fresh Aquatic Products Joint Stock Company

76. Saigon Aquatic Product Trading Joint Stock Company

77. Saigon Food Joint Stock Company

78. SEADANANG

79. Seafood Direct 2012 One Member Limited

80. Seafood Joint Stock Company No. 4

81. Seafood Travel Construction Import-Export Joint Stock Company

82. Seanamico

83. Seaproducts Joint Stock Company

84. Seaspimex Vietnam

85. Simmy Seafood Company Limited

86. South Ha Tinh Seaproducts Import-Export Joint Stock Company

87. South Vina Shrimp—SVS

88. Southern Shrimp Joint Stock Company

89. Special Aquatic Products Joint Stock Company

90. T & P Seafood Company Limited

91. Tai Nguyen Seafood Co., Ltd.

92. Tan Phong Phu Seafood Co., Ltd.

93. Tan Thanh Loi Frozen Food Co., Ltd.

94. THADIMEXCO

95. Thai Hoa Foods Joint Stock Company

96. Thai Minh Long Seafood Company Limited

97. Thaimex

98. Thanh Doan Fisheries Import-Export Joint Stock Company

99. Thanh Doan Sea Products Import & Export Processing Joint-Stock Company

100. Thanh Doan Seafood Import Export Trading Joint-Stock Company

101. The Light Seafood Company Limited

102. Thien Phu Export Seafood

103. Thinh Hung Co., Ltd.

104. Thinh Phu Aquatic Products Trading Co., Ltd.

105. Thuan Thien Producing Trading Ltd. Co.

106. TPP Co. Ltd.

107. Trang Corporation (Vietnam)

108. Trung Son Corp.

109. Trung Son Seafood Processing Joint Stock Company

110. Van Duc Food Company Limited

111. Viet Asia Foods Company Limited

112. Viet Hai Seafood Co., Ltd.

113. Viet Phu Foods and Fish Corp.

114. Viet Shrimp Corporation

115. VIFAFOOD

116. Vinh Phat Food Joint Stock Company

117. XNK Thinh Phat Processing Company

[FR Doc. 2023-24365 Filed 11-2-23; 8:45 am]

BILLING CODE 3510-DS-P